DEPARTMENT OF COMMERCE

National Oceanic and Atmospheric Administration

[I.D. 071001D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Capacity Committee and Groundfish Oversight Committee to consider actions affecting New England fisheries in the exclusive economic zone (EEZ). Recommendations from these groups will be brought to the full Council for formal consideration and action, if appropriate.

DATES: The meetings will be held on August 1 and 2, 2001. See SUPPLEMENTARY INFORMATION for specific dates and times.

ADDRESSES: The meetings will be held at the Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Wednesday, August 1, 2001, 10 a.m.—Capacity Committee Meeting.

The Capacity Committee will discuss nine proposals for reducing latent effort and changing permit transfer restrictions in the Northeast Multispecies Fishery. The Council has directed the Committee to make recommendations on revising the restrictions, and combine these proposals for possible inclusion in Amendment 13 to the Multispecies Fishery Management Plan (FMP). The Committee will not make final decisions about the choice of alternatives, but will report its recommendations to the Council and the Council’s Groundfish Committee.

Thursday, August 2, 2001, 9:30 a.m.—Groundfish Oversight Committee Meeting.

The Groundfish Oversight Committee will meet to continue development of management options for Framework Adjustment 36 and Amendment 13 to the Northeast Multispecies FMP. Framework 36 was initiated by the Council in January, 2001, to address the following issues: reducing excessive regulatory discards of Gulf of Maine cod resulting from a trip limit, meeting the fishing mortality objectives for Gulf of Maine cod, extending and/or adjusting the Western Gulf of Maine closure (currently scheduled to open May 1, 2002), considering allowing access to groundfish closures by tuna purse seine vessels, and expanding the area for the northern shrimp exempted fishery. The Council plans to complete its work on Framework 36 at the July 24-26, 2001 Council meeting, but, if necessary, the Committee will continue development of this action at this meeting.

The Committee will also continue development of Amendment 13. Amendment 13 will adopt programs to rebuild overfished stocks and end overfishing where necessary. The Committee will continue its efforts to develop management alternatives that will meet the goals of the Amendment. Options under consideration include approaches to addressing unused Days-at-Sea, and a wide variety of management tools (closed areas, gear restrictions, effort restrictions, trip limits, recreational fishing restrictions, etc.) as necessary to meet the amendment's objectives.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 10, 2001.
Richard W. Surdi,
Acting Director, Office of Sustainable Fisheries, National Marine Fisheries Service.

[FR Doc. 01-17851 Filed 7-16-01; 8:45 am]

BILLING CODE 3510-22-S